POSTAL SERVICE

International Product Change—Global Expedited Package Services—Non-Published Rates

AGENCY: Postal Service™.

ACTION: Notice.

SUMMARY: The Postal Service gives notice of filing a request with the Postal Regulatory Commission to add Global Expedited Package Services—Non-Published Rates 15 (GEPS-NPR 15) to the Competitive Products List.

DATES: Date of notice: June 1, 2020.

FOR FURTHER INFORMATION CONTACT: Christopher C. Meyerson, 202-268-7820.

SUPPLEMENTARY INFORMATION: The United States Postal Service® hereby gives notice that, pursuant to 39 U.S.C. 3642, on May 21, 2020, it filed with the Postal Regulatory Commission a Request of the United States Postal Service to add Global Expedited Package Services—Non-Published Rates 15 (GEPS-NPR 15) to the Competitive Products List and Notice of Filing GEPS-NPR 15 Model Contract and Application for Non-Public Treatment of Materials Filed Under Seal. Documents are available at www.prc.gov, Docket Nos. MC2020-136 and CP2020-145.

Joshua J. Hofer,
Attorney, Federal Compliance.

[FR Doc. 2020-11641 Filed 5-29-20; 8:45 am]

BILLING CODE 7710-12-P